OFFICE OF PERSONNEL MANAGEMENT

Excepted Service

AGENCY: Office of Personnel Management.

ACTION: Notice.

SUMMARY: This notice identifies Schedule A, B, and C appointing authorities applicable to a single agency that were established or revoked from October 1, 2018 to October 31, 2018.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during October 2018.

Schedule B

No Schedule B Authorities to report during October 2018.

Schedule C

The following Schedule C appointing authorities were approved during October 2018.

Agency name | Organization name | Position title | Authorization No. | Effective date
DEPARTMENT OF AGRICULTURE | Farm Service Agency | State Executive Director (Oregon) | DA180231 | 10/02/2018
| Office of the Assistant Secretary for Congressional Relations | Policy and Congressional Advisor | DA180250 | 10/04/2018
| Office of the Under Secretary for Food, Nutrition and Consumer Services | Confidential Assistant | DA180257 | 10/12/2018
| Office of the Under Secretary for Research, Education, and Economics | Policy Advisor | DA180258 | 10/12/2018
| Office of the Under Secretary for Marketing and Regulatory Programs | Policy Advisor | DA180261 | 10/17/2018
| Office of the Under Secretary for Food Safety | Senior Advisor | DA180249 | 10/29/2018
| Office of Rural Utilities Service | Policy Coordinator | DA190001 | 10/31/2018
DEPARTMENT OF COMMERCE | Office of International Trade Administration | Press Secretary and Speechwriter Director, Office of Legislative Affairs | DC180206 DC180207 | 10/04/2018 10/11/2018
| Minority Business Development Agency | Confidential Assistant | DC190003 | 10/31/2018
| Office of Public Affairs | Press Assistant | DC190008 | 10/31/2018
| Office of the Chief of Staff | Confidential Assistant | DC180210 | 10/04/2018
|  | Director, Center for Faith and Opportunity Initiatives | DC190001 | 10/24/2018
| Office of the Deputy Secretary | Special Assistant | DC190012 | 10/31/2018
| Office of Under Secretary | Senior Advisor | DC180208 | 10/16/2018
| Office of White House Liaison | Special Assistant | DC180199 | 10/18/2018
DEPARTMENT OF DEFENSE | Office of the Under Secretary of Defense (Intelligence) | Special Assistant | DD180130 | 10/04/2018
| Office of the Director (Cost Assessment and Program Evaluation) | Special Assistant | DD180131 | 10/04/2018
DEPARTMENT OF EDUCATION | Office of Elementary and Secondary Education | Senior Advisor | DB190006 | 10/25/2018
| Office of Planning, Evaluation and Policy Development | Confidential Assistant | DB190008 | 10/31/2018
| Office of Postsecondary Education | Special Assistant | DB190005 | 10/31/2018
| Office of the General Counsel | Attorney Adviser (2) | DB190001 DB190009 | 10/12/2018 10/31/2018
| Office of the Secretary | Confidential Assistant (2) | DB180072 DB190003 | 10/12/2018 10/24/2018
DEPARTMENT OF ENERGY | Office of the Assistant Secretary for Congressional and Intergovernmental Affairs | Legislative Affairs Advisor | DE180147 | 10/12/2018
ENVIRONMENTAL PROTECTION AGENCY | Office of the Chief Financial Officer | Senior Advisor for Financial Management | EP180099 | 10/22/2018
| Office of the Administrator | Deputy White House Liaison | EP180096 | 10/31/2018
| Office of the Executive Secretariat | Attorney-Advisor (General) | EP190002 | 10/31/2018
FEDERAL ENERGY REGULATORY COMMISSION | Office of the Chairman | Senior Advisor for Markets and Reliability | DR180005 | 10/29/2018
| Office of the Commissioner | Executive Assistant | DR190002 | 10/31/2018
FEDERAL MINE SAFETY AND HEALTH REVIEW COMMISSION | Federal Mine Safety and Health Review Commission | Confidential Assistant | FR180002 | 10/01/2018
GENERAL SERVICES ADMINISTRATION | Office of Congressional and Intergovernmental Affairs | Policy Advisor | GS180047 | 10/29/2018
DEPARTMENT OF HEALTH AND HUMAN SERVICES | Office of Intergovernmental and External Affairs | Senior Advisor for External Affairs | DH190011 | 10/31/2018
| Office of the Assistant Secretary for Health | Deputy Chief of Staff | DH180249 | 10/12/2018
| Office of the Assistant Secretary for Legislation | Senior Deputy Director of Oversight and Investigations | DH180253 | 10/15/2018
|  | Policy Advisor | DH180220 | 10/31/2018
| Office of the Assistant Secretary for Public Affairs | Director of Communication Strategy and Campaigns | DH180236 | 10/23/2018
| Office of the Secretary | Advisor for Value-Based Reform | DH180246 | 10/04/2018
DEPARTMENT OF HOMELAND SECURITY | Office of United States Citizenship and Immigration Services | Advisor to the Chief of Public Affairs | DM180309 | 10/04/2018
| Office of the Assistant Secretary for Policy | Advisor to the Chief of Staff Advisor for Immigration Policy | DM180294 DM190005 | 10/09/2018 10/22/2018
| Office of Partnership and Engagement | Special Assistant (2) | DM190011 DM190007 | 10/23/2018 10/29/2018
| Federal Emergency Management Agency | Press Secretary | DM190010 | 10/29/2018
DEPARTMENT OF HOUSING AND URBAN DEVELOPMENT | Office of Public Affairs Office of Field Policy and Management | Deputy Director of Speechwriting Special Assistant | DU190008 DU190009 | 10/31/2018 10/31/2018
DEPARTMENT OF JUSTICE | Office of the Associate Attorney General | Senior Counsel | DJ180139 | 10/17/2018
| Office of Public Affairs | Press Assistant | DJ180150 | 10/22/2018
DEPARTMENT OF LABOR | Office of the Assistant Secretary for Policy | Senior Counsel and Policy Advisor | DL180130 | 10/04/2018
| Office of the Solicitor | Counsel | DL190001 | 10/29/2018
| Office of Public Affairs | Speechwriter | DL190004 | 10/29/2018
NATIONAL ENDOWMENT FOR THE HUMANITIES | National Endowment for the Humanities | Staff Assistant | NH190001 | 10/12/2018
NATIONAL TRANSPORTATION SAFETY BOARD | Office of Board Members | Confidential Assistant | TB180006 | 10/16/2018
OFFICE OF NATIONAL DRUG CONTROL POLICY | Office of Public Affairs | Public Affairs Specialist (Speechwriter) | QQ190002 | 10/22/2018
SMALL BUSINESS ADMINISTRATION | Office of Faith-Based and Community Initiatives | Director of Faith Based and Community Initiatives | SB180047 | 10/04/2018
| Office of Administration | Assistant to the Chief of Staff | SB190001 | 10/22/2018
| Office of Communications and Public Liaison | Director of Strategic Communications | SB190002 | 10/22/2018
| Office of Field Operations | Regional Administrator, Region VI | SB180046 | 10/29/2018
DEPARTMENT OF STATE | Office of Policy Planning | Writer—Editor (Speechwriter) | DS190001 | 10/22/2018
| Bureau of African Affairs | Special Assistant | DS190003 | 10/29/2018
| Bureau of Education and Cultural Affairs | Communications Director | DS190007 | 10/29/2018
DEPARTMENT OF TRANSPORTATION | Office of Public Affairs | Special Assistant for Media Strategy | DT180093 | 10/03/2018
| Office of the Administrator | Director of Communications | DT190003 | 10/12/2018
| Office of Small and Disadvantaged Business Utilization | Public Liaison Officer | DT190004 | 10/31/2018
DEPARTMENT OF THE TREASURY | Office of the Assistant Secretary (Public Affairs) | Senior Advisor and Speechwriter | DY180128 | 10/03/2018
DEPARTMENT OF VETERANS AFFAIRS | Office of the Assistant Secretary for Congressional and Legislative Affairs | Special Assistant | DV180069 | 10/22/2018
| Office of the Secretary and Deputy | Director, Office of Support and Mission Operations | DV190009 | 10/31/2018

The following Schedule C appointing authorities were revoked during October 2018.

Agency name | Organization name | Position title | Request No. | Date vacated
COMMODITY FUTURES TRADING COMMISSION | Office of the Chairperson | Senior Advisor | CT170010 | 10/31/2018
DEPARTMENT OF AGRICULTURE | Rural Housing Service | Senior Advisor for External Affairs | DA180163 | 10/13/2018
DEPARTMENT OF COMMERCE | Office of the General Counsel | Senior Counsel to the General Counsel | DC180131 | 10/13/2018
| Office of the Chief of Staff | Program Manager, Office of Faith Based and Neighborhood Partnerships | DC170097 | 10/27/2018
| Office of Under Secretary | Special Advisor | DC180052 | 10/27/2018
| Office of White House Liaison | Confidential Assistant | DC180087 | 10/27/2018
OFFICE OF THE SECRETARY OF DEFENSE | Office of the Secretary of Defense | Advance Officer Director, Travel Operations | DD170222 DD170203 | 10/13/2018 10/13/2018
| Office of the Assistant Secretary of Defense (Asian and Pacific Security Affairs) | Special Assistant to the Deputy Assistant Secretary of Defense for East Asia | DD170236 | 10/27/2018
| Office of the Assistant Secretary of Defense (Manpower and Reserve Affairs) | Confidential Assistant to the Assistant Secretary of Defense for Manpower and Reserve Affairs | DD170210 | 10/27/2018
| Office of the Assistant Secretary of Defense (Special Operations/Low Intensity Conflict) | Special Assistant to the Deputy Assistant Secretary of Defense (Counternarcotic and Global Threats) | DD180003 | 10/27/2018
DEPARTMENT OF EDUCATION | Office of Elementary and Secondary Education | Special Assistant | DB170110 | 10/18/2018
| Office of Planning, Evaluation and Policy Development | Confidential Assistant | DB170146 | 10/22/2018
| Office for Civil Rights | Attorney Adviser | DB170140 | 10/23/2018
| Office of the Secretary | Confidential Assistant | DB180011 | 10/26/2018
|  | Executive Director, White House Initiative on Asian Americans and Pacific Islanders | DB180009 | 10/30/2018
DEPARTMENT OF ENERGY | Office of Policy | Senior Advisor | DE170171 | 10/13/2018
DEPARTMENT OF HEALTH AND HUMAN SERVICES | Office of Administration for Community Living | Policy Advisor to the Commissioner of the Administration on Disabilities | DH180063 | 10/26/2018
| Office of the Assistant Secretary for Legislation | Deputy Director of Oversight and Investigations | DH180191 | 10/13/2018
|  | Director of Oversight and Investigations | DH180189 | 10/26/2018
| Office of the Assistant Secretary for Public Affairs | Press Secretary | DH180154 | 10/15/2018
| Office of the Secretary | Deputy Director of Scheduling | DH180128 | 10/27/2018
DEPARTMENT OF HOMELAND SECURITY | Office of the Assistant Secretary for Public Affairs | Coordinator for Strategic Communications | DM170143 | 10/12/2018
| Office of the General Counsel | Oversight Counsel | DM170260 | 10/19/2018
DEPARTMENT OF HOUSING AND URBAN DEVELOPMENT | Office of Public Affairs | Director of Speechwriting for Program and Policy | DU180043 | 10/15/2018
| Office of Housing | Special Assistant | DU180002 | 10/27/2018
| Office of Community Planning and Development | Senior Advisor | DU180101 | 10/27/2018
DEPARTMENT OF JUSTICE | Office of Public Affairs | Chief Speechwriter | DJ180112 | 10/16/2018
| Office of the Associate Attorney General | Counsel | DJ170129 | 10/27/2018
DEPARTMENT OF STATE | Office of Planning | Staff Assistant | DS170174 | 10/27/2018
EXPORT-IMPORT BANK | Office of the General Counsel | Senior Vice President and General Counsel | EB180004 | 10/13/2018
NATIONAL ENDOWMENT FOR THE HUMANITIES | National Endowment for the Humanities | Special Assistant to the Chairman | NH180001 | 10/12/2018
OFFICE OF THE UNITED STATES TRADE REPRESENTATIVE | Office of the Ambassador | Executive Secretary and Policy Coordinator | TN180002 | 10/12/2018

Authority: 5 U.S.C. 3301 and 3302; E.O. 10577, 3 CFR, 1954-1958 Comp., p. 218.

Office of Personnel Management.
Alexys Stanley,
Regulatory Affairs Analyst.

[FR Doc. 2019-04544 Filed 3-12-19; 8:45 am]

BILLING CODE 6325-39-P